DEPARTMENT OF TRANSPORTATION

Maritime Administration

[Docket No. MARAD-2023-0119]

Deepwater Port License Application: Grand Isle LNG Operating Company, LLC; Notice of Intent; Notice of Public Meeting

AGENCY: Maritime Administration, U.S. Department of Transportation.

ACTION: Notice and request for comments.

SUMMARY: The U.S. Coast Guard (USCG), in coordination with the Maritime Administration (MARAD), will prepare an environmental impact statement (EIS) as part of the environmental review of the Grand Isle LNG Operating Company, LLC (Applicant) deepwater port license application. The application proposes the ownership, construction, operation, and eventual decommissioning of an offshore natural gas export deepwater port, known as the Grand Isle LNG Export Deepwater Port Development Project, that would be located in Federal waters approximately 11.3 nautical miles (13 statute miles, or 20.9 kilometers) offshore Plaquemines Parish, Louisiana in a water depth of approximately 68 to 72 feet (20.7 to 21.9 meters). The deepwater port would allow for the loading of liquefied natural gas (LNG) trading carriers. This Notice of Intent (NOI) requests public participation in the scoping process, provides information on how to participate and announces an informational open house and public meeting. Pursuant to the criteria provided in the Deepwater Port Act of 1974, as amended, Louisiana is the designated Adjacent Coastal State (ACS) for this application.

DATES: Comments must be received on or before 30 days from the date of publication of this Federal Register notice. MARAD and USCG will hold one in-person Public Meeting in connection with scoping for the Grand Isle LNG Export Deepwater Port Development Project.

The in-person public meeting will be held on July 27, 2023, at the Grand Isle Multiplex, 3101 LA-1, Grand Isle, LA 70358 from 4 p.m. to 6 p.m. Central Daylight Time (CDT). The public meeting will be preceded by an open house from 3 p.m. to 4 p.m. CDT. The public meeting may end later than the stated time, depending on the number of persons who wish to make a comment on the record.

Additionally, materials submitted in response to this request for comments on the Grand Isle LNG Export Deepwater Port Development Project deepwater port license application must be submitted to the www.regulations.gov website or the Federal Docket Management Facility as detailed in the ADDRESSES section below by the close of the comment period.

ADDRESSES: You may submit comments identified by DOT Docket Number MARAD-2023-0119 by any one of the following methods:

• Federal eRulemaking Portal: Go to http://www.regulations.gov. Search MARAD-2023-0119 and follow the instructions for submitting comments.

• Mail or Hand Delivery: The Docket Management Facility is in the West Building, Ground Floor of the U.S. Department of Transportation. The Docket Management Facility location address is U.S. Department of Transportation, MARAD-2023-0119, 1200 New Jersey Avenue SE, West Building, Room W12-140, Washington, DC 20590. Call 202-493-0402 to determine facility hours prior to hand delivery.

Note: If you mail or hand-deliver your comments, we recommend that you include your name and a mailing address, an email address, and/or a telephone number in a cover page so that we can contact you if we have questions regarding your submission.

Instructions: All submissions received must include the agency name and specific docket number. All comments received will be posted without change to the docket at www.regulations.gov, including any personal information provided. For detailed instructions on submitting comments, see the section entitled Public Participation.

For assistance, please contact either the Maritime Administration via email at Deepwater.Ports@dot.gov, or the U.S. Coast Guard via email at DeepwaterPorts@uscg.mil. Include “MARAD-2023-0119” in the subject line of the message. This email will not be relied on for the intake of comments for this deepwater port license application. To submit written comments and other material submissions, please follow the directions above. Please do not submit written comments or other materials to the email addresses in this section. Improperly submitted comments interfere with MARAD and USCG's ability to help others seeking assistance with comment submission or public meeting attendance.

SUPPLEMENTARY INFORMATION:

Public Meetings and Open House

We encourage you to attend the informational open house and public meeting to learn about, and comment on, the proposed deepwater port. You will have the opportunity to submit comments on the scope and significance of the issues related to the proposed deepwater port that should be addressed in the EIS.

In order to allow everyone a chance to speak at a public meeting, we may limit speaker time, extend the meeting hours, or both. You must identify yourself, and any organization you represent, by name. Your remarks will be recorded and/or transcribed for inclusion in the public docket.

You may submit written material through docket submission either in place of, or in addition to, speaking. Written material should include your name and address and will be included in the public docket.

Public docket materials will be made available to the public on the Federal Docket Management Facility website (see ADDRESSES).

If you plan to participate in the open house or public meetings and require special assistance such as sign language interpretation, non-English language interpretation services or other reasonable accommodation, please notify MARAD or the USCG (see ADDRESSES) at least 5 business days in advance of the public meetings. Include your contact information as well as information about your specific needs.

Request for Comments

We request public comment on this proposal. The comments may relate to, but are not limited to, the environmental impact of the proposed action, including those on alternatives or relevant information, studies, or analysis with respect to the licensing of the deepwater port. All comments will be accepted. The public meeting is not the only opportunity you have to comment on the Grand Isle LNG Export Deepwater Port Development Project deepwater port license application. In addition to, or in place of, attending a meeting, you may submit comments directly to the Federal Docket Management Facility during the public comment period (see DATES). We will consider all substantive comments and material received during the 30-day scoping period.

The license application, comments, and associated documentation, as well as the draft and final EISs (when published), are available for viewing at the Federal Docket Management System (FDMS) website: http://www.regulations.gov under docket number MARAD-2023-0119.

Public comment submissions should include:

• Docket number MARAD-2023-0119.

• Your name and address.

Submit comments or material using only one of the following methods:

• Electronically (preferred for processing) to the Federal Docket Management System (FDMS) website: http://www.regulations.gov under docket number MARAD-2023-0119.

• By mail to the Federal Docket Management Facility (MARAD-2023-0119), U.S. Department of Transportation, West Building, Ground Floor, Room W12-140, 1200 New Jersey Avenue SE, Washington, DC 20590-0001.

• By fax to the Federal Docket Management Facility at 202-366-9826.

Faxed or mailed submissions must be unbound, no larger than 8½ by 11 inches and suitable for copying and electronic scanning. The format of electronic submissions should also be no larger than 8½ by 11 inches. If you mail your submission and want to know when it reaches the Federal Docket Management Facility, please include a stamped, self-addressed postcard or envelope.

For additional information please contact USCG via email at DeepwaterPorts@uscg.mil and MARAD via email at Deepwater.Ports@dot.gov. Include “MARAD-2023-0119” in the subject line of the message. These email addresses will not be relied on for the intake of comments on the Grand Isle LNG Export Deepwater Port Development Project deepwater port license application. To submit written comments and other material submissions, please follow the directions above.

Regardless of the method used for submitting comments, all submissions will be posted, without change, to the FDMS website (http://www.regulations.gov) and will include any personal information you provide. Therefore, submitting this information to the docket makes it public. You may wish to read the Privacy and Use Notice that is available on the FDMS website and the U.S. Department of Transportation Privacy Act Notice that appeared in the Federal Register on April 11, 2000 (65 FR 19477), see Privacy Act. You may view docket submissions at the Federal Docket Management Facility or electronically on the FDMS website.

Background

Information about deepwater ports, the statutes, and regulations governing their licensing, including the application review process, and the receipt of the current application for the proposed Grand Isle LNG Export Deepwater Port Development Project appears in the Grand Isle LNG Export Deepwater Port Development Project Notice of Application, June 27, 2023, edition of the Federal Register. The “Summary of the Application” from that publication is reprinted below for your convenience.

Consideration of a deepwater port license application includes review of the proposed deepwater port's impact on the natural and human environment. For the proposed deepwater port it has been determined that review must include preparation of an EIS. This NOI is required by 40 CFR 1501.9. It briefly describes the proposed action, possible alternatives, and our proposed scoping process. You can address any questions about the proposed action, the scoping process, or the EIS to MARAD or USCG (see ADDRESSES).

Proposed Action and Alternatives

The proposed action requiring environmental review is the Federal licensing of the proposed deepwater port described in “Summary of the Application” below. The alternatives to licensing the proposed port are: (1) licensing with conditions (including conditions designed to mitigate environmental impact), (2) evaluation of proposed deepwater port and onshore site/pipeline route alternatives or (3) denying the application, which for purposes of environmental review is the “no-action” alternative.

Summary of the Application

The application proposes the ownership, construction, operation, and eventual decommissioning of the Grand Isle LNG Export Deepwater Port Development Project deepwater port (“DWP”) terminal to be located approximately 11.3 nautical miles (13 statute miles, or 20.9 kilometers) offshore Plaquemines Parish, Louisiana. The project would involve the installation of two nominal 2.1 MTPA liquefaction systems installed in the West Delta Outer Continental Shelf Lease Block 35 (WD-35), in approximately 68 to 72 feet of water. The proposed Grand Isle LNG Export Deepwater Port Development Project DWP would export liquefied natural gas (LNG) up to 4.2 million metric tons per annum (MMTPA).

The proposed Grand Isle LNG Export Deepwater Port Development Project DWP would consist of fixed and floating components. These components would include eight (8) platforms, two (2) floating storage units (FSUs), and three (3) interconnecting lateral pipelines for feed gas supply. The eight platforms would include two (2) gas treatment platforms; two (2) LNG liquefaction platforms; two (2) LNG loading platforms; one (1) accommodations platform; and one (1) thermal oxidizer platform. Each platform would be connected via a series of eight (8) linking bridges; the two FSUs would be connected using two (2) telescopic gangways.

The LNG would be loaded onto standard LNG carriers with nominal cargo capacities between 125,000 and 180,000 cubic meters (m3) (average expected size is 155,000 m3) for the export of LNG, including to Free Trade Agreement (FTA) and non-FTA nations.

The project would be completed in two phases. Phase 1 construction would include five (5) platforms (a gas treatment platform, an LNG liquefaction platform, an LNG loading platform, the accommodations platform, and the thermal oxidizer platform), one (1) FSU, and interconnect lateral pipelines. Phase 1 would produce 2.1 MMTPA of LNG. Phase 2 construction would be expected to begin one year after the beginning of Phase 1 construction. Phase 2 would include the remaining three (3) platforms (a gas treatment platform, an LNG liquefaction platform, and an LNG loading platform) and an additional FSU. Phase 2 would increase the production of the project to 4.2 MMTPA of LNG.

The feed gas supply to the project would be transported via three (3) new pipeline laterals. A new 24-inch-diameter lateral, 1.11 statute miles (1.79 kilometers) in length, would tie-in to the existing Kinetica Partners 24-inch (61-centimeter) pipeline. A new 20-inch lateral, 0.43 statute mile (0.69 kilometer) in length, would tie-in to the existing 20-inch (51-centimeter) Kinetica Partners pipeline. Finally, a new 20-inch-diameter lateral, 4.75 statute miles (7.64 kilometers) in length, would tie-in to the existing 18-inch (46-centimeter) High Point Gas Transmission pipeline.

The fabrication and assembly yards for the DWP's fixed components would be located in south Louisiana. One (1) purpose-built transport barge and three (3) project-specific tugs would also be built in south Louisiana. The two (2) FSUs proposed for the project would be repurposed LNG carriers. These would be converted to FSUs in a shipyard located in Europe or Asia.

The onshore components would consist of an existing receiving area/warehouse with an onsite office. These components would be located at one of the existing fabrication yards in Louisiana.

For Phases 1 and 2, platform and pile fabrication and assembly would be contracted to various existing fabrication yards in south Louisiana with the capacity to build and load out up to a 10,000-short-ton deck. Most of the major equipment (e.g., generators, cranes, gas compressors, and gas treating equipment) would be purchased, fabricated, and assembled at vendor suppliers and then shipped pre-commissioned and ready to install on each of the platform topsides.

The living quarters and helideck that are part of the accommodations platform would be prefabricated and shipped separately. The selected contractor would install the prefabricated quarters onto the accommodations platform deck at the onshore fabrication yard. The piles and risers would be fabricated at a fabrication yard in the south Louisiana region. Subsea assemblies would be fabricated and tested at a fabrication yard.

The purpose-built transport barge and the three project-specific tugs would be built in a south Louisiana shipyard. The tugs and barge would be used during both installation phases of the DWP.

Scoping Process

Public scoping is an early and open process for identifying and determining the scope of issues to be addressed in the EIS. Scoping begins with this notice, continues through the public comment period (see Dates), and ends when USCG and MARAD have completed the following actions:

• Invites the participation of Federal, State, Tribal, and local agencies, the Applicant, and other interested persons;

• Determines the actions, alternatives and impacts described in 40 CFR 1508.25;

• Identifies and eliminates from detailed study, those issues that are not significant or that have been covered elsewhere;

• Identifies other relevant permitting, environmental review, and consultation requirements;

• Indicates the relationship between timing of the environmental review and other aspects of the application process.

Once the scoping process is complete, USCG, in coordination with MARAD, will prepare a draft EIS. When complete, MARAD will publish a Federal Register notice announcing public availability of the Draft EIS. (If you want that notice to be sent to you, please see ADDRESSES). You will have an opportunity to review and comment on the Draft EIS. MARAD, the USCG, and other appropriate cooperating agencies will consider the received substantive comments and then prepare the Final EIS. As with the Draft EIS, we will announce the availability of the Final EIS. The Act requires a final public hearing be held in the ACS. Its purpose is to receive comments on matters related to whether or not a deepwater port license should be issued to the applicant by the Maritime Administrator. The final public hearing will be held after the Final EIS is made available for public review.

Privacy Act

Anyone can search the electronic form of all comments received into any of our dockets by the name of the individual submitting the comment (or signing the comment, if submitted on behalf of an association, business, labor union, etc.). For information on DOT's compliance with the Privacy Act, please visit https://www.transportation.gov/privacy.

(Authority: 49 CFR 1.93.)

By Order of the Maritime Administrator.
T. Mitchell Hudson, Jr.,
Secretary, Maritime Administration.

[FR Doc. 2023-13474 Filed 6-30-23; 8:45 am]

BILLING CODE 4910-81-P